DEPARTMENT OF THE TREASURY

Office of Foreign Assets Control

Unblocking of Specially Designated Nationals and Blocked Persons Pursuant to Cuban Assets Control Regulations

AGENCY: Office of Foreign Assets Control, Treasury.

ACTION: Notice.

SUMMARY: The Department of the Treasury's Office of Foreign Assets Control (OFAC) is publishing the names of two vessels whose property and interests in property have been unblocked pursuant to the Cuban Assets Control Regulations, 31 CFR part 515.

DATES: The unblocking and removal from the list of Specially Designated Nationals and Blocked Persons (SDN List) of the two vessels identified in this notice whose property and interests in property were blocked pursuant to Cuban Assets Control Regulations, is effective on September 30, 2014.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

The SDN List and additional information concerning OFAC is available from OFAC's Web site (www.treasury.gov/ofac). Certain general information pertaining to OFAC's sanctions programs is also available via facsimile through a 24-hour fax-on-demand service, tel.: 202/622-0077.

Background

On September 30, 2014, the Director of OFAC removed from the SDN List the two vessels listed below, whose property and interests in property were blocked pursuant to Cuban Assets Control Regulations:

Vessels

1. EAST ISLANDS (C4QB) General Cargo 15,120DWT 8,996GRT Cyprus flag (EAST ISLAND SHIPPING CO. LTD. (SDN)) (vessel) [CUBA].

2. SOUTH ISLANDS (C4AN) General Cargo 15,147DWT 8,996GRT Cyprus flag (SOUTH ISLAND SHIPPING CO. LTD. (SDN)) (vessel) [CUBA].

Dated: September 30, 2014.
John Smith,
Acting Director, Office of Foreign Assets Control.

[FR Doc. 2014-24055 Filed 10-7-14; 8:45 am]

BILLING CODE 4810-AL-P